DEPARTMENT OF ENERGY

Federal Energy Regulatory Commission

[Docket No. PF06-16-000]

Kinder Morgan Louisiana Pipeline, L.L.C.; Notice of Intent To Prepare an Environmental Impact Statement for the Proposed Kinder Morgan Pipeline Project and Request for Comments on Environmental Issues

March 24, 2006.

The staff of the Federal Energy Regulatory Commission (FERC or Commission) will prepare an environmental impact statement (EIS) for the Kinder Morgan Pipeline Project proposed in southwest Louisiana by Kinder Morgan Louisiana Pipeline, L.L.C. This notice describes the proposed project, the EIS process and how the public can participate in our ¹ analysis.

¹ “We,” “us,” and “our” refer to the environmental staff of the FERC's Office of Energy Projects.

This notice is being sent to affected landowners; federal, state, and local government agencies; elected officials; environmental and public interest groups; Native American tribes; other interested parties; and local libraries and newspapers. We encourage government representatives to notify their constituents of this proposed project and encourage them to comment on their areas of concern.

Summary of the Proposed Project

Kinder Morgan proposes to construct, operate and maintain approximately 133 miles of natural gas pipeline in Cameron, Calcasieu, Jefferson Davis, Acadia and Evangeline Parishes, Louisiana. According to Kinder Morgan, the purpose of this project is to provide an additional source of long-term, competitively priced natural gas from the Sabine Pass Liquefied Natural Gas (LNG) Terminal to intrastate and interstate natural gas markets. Kinder Morgan has stated that this project is necessary to help meet the growing imbalance between national supply and demand.

Specifically, Kinder Morgan is proposing to construct, operate and maintain:

• 130 miles of 42-inch-diameter pipeline beginning within the Sabine Pass LNG Terminal in Cameron Parish and extending northward and easterly through Calcasieu, Jefferson Davis and Acadia Parishes until it connects with an existing Columbia Gulf Transmission interstate pipeline in Evangeline Parish, Louisiana.

• 1 mile of 36-inch-diameter bi-directional pipeline beginning within the Sabine Pass LNG Terminal and extending northward until it connects with the existing Natural Gas Pipeline Company of America pipeline approximately one mile north of the LNG terminal in Cameron Parish, Louisiana.

• 2.2 miles of 24-inch-diameter pipeline extending eastwardly from approximately Milepost 109 of the 130-mile leg described above until it connects with the existing Florida Gas Transmission Company's Compressor Station #7 near the town of Williams in Acadia Parish, Louisiana.

• Associated mainline block valves, metering, tie-in and pigging facilities.

The Kinder Morgan Pipeline would deliver approximately 3.4 million decatherms (Dth) of natural gas per day and would connect with fourteen intrastate and interstate pipeline facilities. No compressor stations would be included as part of the project.

A general location of the proposed pipeline is provided in Appendix 1.²

Land Requirements

Kinder Morgan is proposing that construction of the 42-inch-diameter and 36-inch-diameter pipelines would require between 85-130 feet of construction right-of-way (ROW). Construction of the 24-inch-diameter pipeline would require the use of 75-95 feet of construction ROW. Temporary work spaces (TWS) would also be required for construction of the proposed project. The size of construction ROW and TWS required for construction would vary depending on land type and construction method. Approximately 1,600 acres of land would be temporarily affected by construction of the proposed project. In addition, during construction additional lands would also be temporarily affected by pipeline storage yards, contractor staging areas, temporary work spaces and access roads.

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to Kinder Morgan.

Kinder Morgan proposes that 50 feet of permanent ROW would be necessary for all three pipeline segments. Approximately 800 acres of land would be permanently affected by operation of the proposed project.

If you are a landowner receiving this notice, you may be contacted by a Kinder Morgan representative about the acquisition of an easement to construct, operate and maintain the proposed project facilities. The pipeline company would seek to negotiate a mutually acceptable agreement. However, if the project is approved by the FERC, that approval conveys with it the right of eminent domain. Therefore, if easement negotiations fail to produce an agreement, the pipeline company could initiate condemnation proceedings in accordance with state law.

The EIS Process

The National Environmental Policy Act (NEPA) requires the Commission to take into account the environmental impacts that could result from the approval of an interstate natural gas pipeline. The FERC will use the EIS to assess the environmental impact that could result if the Kinder Morgan Pipeline Project is authorized under section 7 of the Natural Gas Act. NEPA also requires us to discover and address concerns the public may have about proposals under consideration by the Commission. This process is referred to as “scoping.” The main goal of the scoping process is to focus the analysis in the EIS on the important environmental issues. With this Notice of Intent, the Commission staff is requesting public comments on the scope of the issues to be addressed in the EIS. All comments received will be considered during preparation of the EIS. Please note that the scoping period will close on April 24, 2006.

In the EIS, we will discuss impacts that could occur as a result of the construction and operation of the proposed project under these general headings:

• Geology and soils;

• Water resources;

• Wetlands and vegetation;

• Fish and wildlife;

• Threatened and endangered species;

• Land use, recreation and visual resources;

• Air quality and noise;

• Cultural resources;

• Socioeconomics;

• Reliability and safety; and

• Cumulative impacts.

In the EIS, we will also evaluate possible alternatives to the proposed project or portions of the project and make recommendations on how to lessen or avoid impacts on affected resources.

Our independent analysis of the issues will be included in a draft EIS. The draft EIS will be mailed to Federal, State and local government agencies; elected officials; environmental and public interest groups; Native American tribes; affected landowners; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this notice.

Although no formal application has been filed, the FERC staff has already initiated its NEPA review under its Pre-filing Process. The purpose of the Pre-filing Process is to encourage the early involvement of interested stakeholders and to identify and resolve issues before an application is filed.

With this notice, we are asking Federal, State and local governmental agencies with jurisdiction and/or special expertise with respect to environmental issues to express their interest in becoming cooperating agencies for the preparation of the EIS. These agencies may choose to participate once they have evaluated the proposal relative to their responsibilities. Agencies that would like to request cooperating status should send a letter expressing that interest and expected level of involvement to the Secretary of the Commission at the address provided in the public participation section of this notice.

Currently Identified Environmental Issues

The EIS will discuss impacts that could occur as a result of the construction, operation and maintenance of the proposed project. We have already identified several issues that we think deserve attention based on a preliminary review of the project site and the facility information provided by Kinder Morgan. This preliminary list of issues may be changed based on your comments and our analysis.

• Potential impacts to Sabine Lake, including oyster reefs.

• Potential impacts to perennial and intermittent waterbodies, including waterbodies with Federal and/or State designations.

• Evaluation of temporary and permanent impacts on wetlands and development of appropriate mitigation.

• Potential impacts to fish and wildlife habitat, including the potential for impacts to federally and state-listed threatened and endangered species, as well as the potential for impacts to wildlife refuges.

• Potential impacts to existing land uses, including residences, agricultural and managed forested lands.

• Potential impacts and potential benefits of construction workforce on local housing, infrastructure, public services and economy.

• Alternative alignments for the pipeline route, alternative construction methods and alternative sites for associated surface facilities, such as staging areas temporarily used during construction.

Public Participation

You can make a difference by providing us with your specific comments or concerns about the proposed project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please carefully follow these instructions:

• Send an original and two copies of your letter to: Magalie R. Salas, Secretary, Federal Energy Regulatory Commission, 888 First St., NE., Room 1A, Washington, DC 20426.

• Label one copy of your comments for the attention of Gas Branch 2, DG2E.

• Reference Docket No. PF06-16-000 on the original and both copies.

• Mail your comments so that they will be received in Washington, DC on or before April 24, 2006.

Please note that we are continuing to experience delays in mail deliveries from the U.S. Postal Service. As a result, we will include all comments that we receive within a reasonable time frame in our environmental analysis of this project. The Commission strongly encourages electronic filing of any comments in response to this Notice of Intent. For information on electronically filing comments, please see the instructions on the Commission's Web site at http://www.ferc.gov under the “e-Filing” link and the link to the User's Guide, as well as information in 18 CFR 385.2001(a)(1)(iii). Before you can submit comments you will need to create a free account, which can be created on-line.

Public scoping meetings are designed to provide another opportunity to offer comments on the proposed project. The FERC is arranging and will announce plans for public scoping meetings in the vicinity of the proposed project before the close of the scoping period on April 24, 2006. Interested groups and individuals are encouraged to attend these meetings and to present comments on the environmental issues they believe should be addressed in the EIS. A transcript of each meeting will be generated so that your comments will be accurately recorded.

Once Kinder Morgan formally files its application with the Commission, you may want to become an official party to the proceeding known as an “intervenor.” Intervenors play a more formal role in the process and are able to file briefs, appear at hearings and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

An effort is being made to send this notice to all individuals, organizations and government entities interested in and/or potentially affected by the proposed project. This includes all landowners who are potential right-of-way grantors, whose property may be used temporarily for project purposes or who own homes within distances defined in the Commission's regulations of certain aboveground facilities.

If you received this notice, you are on the environmental mailing list for this project. If you do not want to send comments at this time, but still want to remain on our mailing list, please return the Information Request (Appendix 2). If you do not return the Information Request, you will be removed from the Commission's environmental mailing list.

Availability of Additional Information

Additional information about this project can be obtained by contacting the Commission's Office of External Affairs, at 1-866-208-FERC (3372). Additional information is also available on the Internet at http://www.ferc.gov. The “eLibrary link” on the FERC Web site provides access to documents submitted to and issued by the Commission, such as comments, orders, notices and rulemakings. Once on the FERC website, click on the “eLibrary link,” select “General Search” and in the “Docket Number” field enter the project docket number excluding the last three digits (PF06-16). When researching information be sure to select an appropriate date range. In addition, the FERC now offers a free e-mail service called eSubscription that allows you to keep track of all formal issuances and submittals in specific dockets. This can reduce the amount of time you spend researching proceedings by automatically providing you with notification of these filings, document summaries and direct links to the documents. To register for this service, go to http://www.ferc.gov/esubscribenow.htm.

Public meetings or site visits will be posted on the Commission's calendar located at http://www.ferc.gov/EventCalendar/EventsList.aspx along with other related information.

For assistance with the FERC Web site or with eSubscription, please contact FERC Online Support at FERCOnlineSupport@ferc.gov or toll free at 1-866-208-3676, or TTY, contact (202) 502-8659.

Kinder Morgan has also established an Internet Web site for this project at http://www.kindermorgan.com/business/gas_pipelines/KMLP. This Web site includes a description of the project, a map of the proposed pipeline route and answers to frequently asked questions. You can also request additional information or provide comments directly to Kinder Morgan at 1-877-751-7626 or by e-mail at kmlpinfo@kindermorgan.com.

Magalie R. Salas,
Secretary.

[FR Doc. E6-4643 Filed 3-29-06; 8:45 am]

BILLING CODE 6717-01-P